ENVIRONMENTAL PROTECTION AGENCY

[FRL-6605-3]

Microbial and Disinfectants/Disinfection Byproducts Advisory Committee; Notice of Meetings

AGENCY: Environmental Protection Agency.

ACTION: Notice of meetings.

SUMMARY: Under section 10(a)(2) of Public Law 920423, “The Federal Advisory Committee Act,” notice is hereby given of a series of meetings of the Microbial and Disinfectants/Disinfection Byproducts Advisory Committee established under the Safe Drinking Water Act, as amended (42 U.S.C. S300f et seq.). All meetings are scheduled from 9 a.m. to 5 p.m. eastern time, and will be held at RESOLVE, Inc., 1255 23rd Street, NW, Suite 275 Washington DC 20037. The meetings are open to the public, but due to past experience, seating will be limited.

The meetings are scheduled for: June 1-2, to discuss results of Technical Working Group analysis; June 27-28, to continue discussions on results of Technical Working Group analysis; and draft Agreement in Principle; and July 27, to finalize Agreement in Principle.

Statements from the public will be taken if time permits.

For more information, please contact Martha M. Kucera, Designated Federal Officer, Microbial and Disinfectants/Disinfection Byproducts Advisory Committee, U.S. EPA, Office of Ground Water and Drinking Water, Mailcode 4607, 1200 Pennsylvania Avenue, NW, Washington, DC 20460. The telephone number is 202-260-7773 or E-mail kucera.martha@epamail.epa.gov.

Dated: May 1, 2000.
Cynthia C. Dougherty,
Director, Office of Ground Water and Drinking Water.

[FR Doc. 00-11820 Filed 5-10-00; 8:45 am]

BILLING CODE 6560-50-P